INTERNATIONAL TRADE COMMISSION

[Investigations Nos. 701-TA-432 and 731-TA-1024-1028 (Final)]

Prestressed Concrete Steel Wire Strand From Brazil, India, Korea, Mexico, and Thailand

Determinations

On the basis of the record ¹ developed in the subject investigations, the United States International Trade Commission (Commission) determines, pursuant to section 705(b) of the Tariff Act of 1930 (19 U.S.C. 1671d(b)) (the Act), that an industry in the United States is materially injured by reason of imports from India of prestressed concrete steel wire strand (PC strand) that have been found by the Department of Commerce (Commerce) to be subsidized by the Government of India and by reason of imports from Brazil, India, Korea, Mexico, and Thailand of PC strand that have been found by Commerce to be sold in the United States at less than fair value (LTFV). The subject merchandise is provided for in subheading 7312.10.30 of the Harmonized Tariff Schedule of the United States.

¹ The record is defined in § 207.2(f) of the Commission's Rules of Practice and Procedure (19 CFR 207.2(f)).

Background

The Commission instituted these investigations effective January 31, 2003, following receipt of petitions filed with the Commission and Commerce by American Spring Wire Corp., Bedford Heights, OH; Insteel Wire Products Co., Mt. Airy, NC; and Sumiden Wire Products Corp., Stockton, CA. The final phase of the investigations was scheduled by the Commission following notification of preliminary determinations by Commerce that imports of PC strand from India were being subsidized within the meaning of section 703(b) of the Act (19 U.S.C. 1671b(b)) and that imports of PC strand from Brazil, India, Korea, Mexico, and Thailand were being sold at LTFV within the meaning of section 733(b) of the Act (19 U.S.C. 1673b(b)). Notice of the scheduling of the final phase of the Commission's investigations and of a public hearing to be held in connection therewith was given by posting copies of the notice in the Office of the Secretary, U.S. International Trade Commission, Washington, DC, and by publishing the notice in the Federal Register of September 4, 2003 (68 FR 52614). The hearing was held in Washington, DC, on December 2, 2003, and all persons who requested the opportunity were permitted to appear in person or by counsel.

The Commission transmitted its determinations in these investigations to the Secretary of Commerce on January 21, 2004. The views of the Commission are contained in USITC Publication 3663 (January 2004), entitled Prestressed Concrete Steel Wire Strand from Brazil, India, Korea, Mexico, and Thailand: Investigations Nos. 701-TA-432 and 731-TA-1024-1028 (Final).

Issued: January 22, 2004.
By order of the Commission.
Marilyn R. Abbott,
Secretary to the Commission.

[FR Doc. 04-1741 Filed 1-27-04; 8:45 am]

BILLING CODE 7020-02-P